ENVIRONMENTAL PROTECTION AGENCY

[OPP-2003-0105; FRL-7298-6]

Notice of Availability of Regional Pesticide Environmental Stewardship Program (PESP) Grants

AGENCY: Environmental Protection Agency (EPA).

ACTION: Notice

.

SUMMARY: EPA is announcing the availability of approximately $500,000 in fiscal year 2003 grant/cooperative agreement funds under section 20 of the Federal Insecticide, Fungicide, and Rodenticide Act (FIFRA) as amended. This funding is for grants to States and federally recognized Native American Tribes for research, public education, training, monitoring, demonstrations, and studies that advance pesticide risk reduction.

DATES: Applications must be received by the appropriate EPA Regional Office on or before May 16, 2003. EPA will make its award decisions by June 20, 2003.

FOR FURTHER INFORMATION CONTACT: Your EPA Regional PESP Coordinator listed under Unit V. of this notice.

SUPPLEMENTARY INFORMATION:

I. General Information

A. Does this Action Apply to Me?

This action is directed to the public in general but will be of particular interest to eligible applicants which include the 50 States, District of Columbia, U.S. Virgin Islands, Commonwealth of Puerto Rico, any territory or possession of the United States, any agency or instrumentality of a State including State universities, and all federally recognized Native American Tribes. Since other entities may also be interested, the Agency has not attempted to describe all the specific entities that may be affected by this action. If you have any questions regarding the applicability of this action to a particular entity, consult your EPA Regional PESP Coordinator listed under Unit V. of this notice.

B. How Can I Get Additional Information, Including Copies of this Document and Other Related Documents?

1. Docket. EPA has established an official public docket for this action under docket identification (ID) number OPP-2003-0105. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. Additional information is available on EPA's PESP website at http://www.epa.gov/oppbppd1/PESP/regional_grants.htm.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

3. By mail or in person. Contact your EPA Regional PESP Coordinator listed under Unit V. of this notice.

II. Availability of FY'03 Funds

With this publication, EPA is announcing the availability of approximately $500,000 in grant/cooperative agreement funds for FY'03. The Agency has delegated grant making authority to the EPA Regional Offices. Federal funding is limited to $40,000 per project and matching funds are not required. Projects which leverage funding from other sources are encouraged.

III. Eligible Applicants

In accordance with the Act, “. . . Federal agencies, universities, or others as may be necessary to carry out the purposes of the act, . . .” are eligible to receive funding. Restrictions on the funds appropriated for this program limit the eligible applicants to the 50 States, District of Columbia, U.S. Virgin Islands, Commonwealth of Puerto Rico, any territory or possession of the United States, any agency or instrumentality of a State including State universities, and all federally recognized Native American Tribes. The term “State” in this notice refers to all eligible applicants.

Local governments, private universities, private nonprofit entities, private businesses, and individuals are not eligible. EPA encourages organizations excluded from applying directly to work with eligible applicants in developing proposals that include them as participants in the projects. Contact your EPA Regional PESP Coordinator for assistance in identifying and contacting eligible applicants.

IV. Activities and Criteria

A. Activities

The goal of PESP is to reduce the risks associated with pesticide use in agricultural and non-agricultural settings in the United States. The purpose of the grant program is to support projects that address this goal. Pesticide pollution prevention, integrated pest management (IPM), IPM in schools, children's health issues related to pesticides, and those research methods for documenting IPM adoption or the reduction of risks associated with changes in pesticide use will receive priority consideration. Other projects will be considered as they complement these goals through public education, training, monitoring, demonstrations, and other activities.

EPA specifically seeks to build IPM capacities or to evaluate the economic feasibility of new IPM approaches at the local level (i.e., innovative approaches and methodologies that use application or other strategies to reduce the risks associated with pesticide use). Projects might focus on, for example:

• Researching the effectiveness of multimedia communication activities for; including but not limited to: promoting local IPM activities, providing technical assistance to pesticide users; collecting and analyzing data to target outreach and technical assistance opportunities; developing measures to determine and document progress in pollution prevention; and identifying regulatory and non-regulatory barriers or incentives to pollution prevention.

• Researching methods for establishing IPM as an environmental management priority, establishing prevention goals, developing strategies to meet those goals, and integrating the ethic within both governmental and non-governmental institutions of the State or region.

• Initiating research or other projects that test and support: Innovative techniques for reducing pesticide risk or using pesticides in a way to reduce risk, and innovative application techniques to reduce worker and environmental exposure.

• Implementing reduced-risk pest management programs with special considerations of the impact to human health, water and/or air quality, or ecosystem processes. A list of projects funded since FY'98 and their proposals may be obtained at http://www.epa.gov/oppbppd1/PESP/regional_grants.htm or from your Regional PESP Coordinator.

B. Criteria

EPA Regional Offices are responsible for the solicitation, screening, and selection of proposals for funding. A generic request for proposal will be available on EPA's website on or before March 26, 2003, at http://www.epa.gov/oppbppd1/PESP/regional_grants.htm. Interested applicants must contact the appropriate EPA Regional PESP Coordinator to obtain specific instructions, regional criteria, guidance, and format for submitting proposals. Proposals will be evaluated based on the following criteria:

1. Qualifications and experience of the applicant relative to the proposed project.

• Does the applicant demonstrate experience in the field of the proposed activity?

• Does the applicant have the properly trained staff, facilities, or infrastructure in place to conduct the project?

2. Consistency of proposal with the risk reduction goals of PESP.

3. Does the project provide for a quantitative or qualitative evaluation of achieving the stated goals?

• Is the project designed in such a way that it is possible to measure and document the results quantitatively and qualitatively?

• Does the applicant identify the method that will be used to measure and document the results quantitatively and qualitatively?

4. Likelihood the project can be replicated to benefit other communities or the product may have broad utility to a widespread audience. Can this project, taking into account typical staff and financial restraints, be replicated by similar organizations in different locations to address the same or similar problem?

C. Program Management

The awarding of FY'03 funds will be managed through the EPA Regional Offices. Quality Assurance/Quality Control plans may be required, depending on the nature of the project and the data collected. Contact your Regional PESP Coordinator for more information about this requirement.

V. Regional PESP Coordinators

Region I: (Connecticut, Maine, Massachusetts, New Hampshire, Rhode Island, Vermont), Andrea Szylvian, 1 Congress St., Suite 1100, (CPT), Boston, MA 02114-2023; telephone: (617) 918-1198; e-mail: szylvian.andrea@epa.gov.

Region II: (New Jersey, New York, Puerto Rico, Virgin Islands), Tara Masters, Raritan Depot, 2890 Woodbridge Ave., (MS-500), Edison, NJ 08837-3679; telephone: (732) 906-6183; e-mail: masters.tara@epa.gov.

Region III: (Delaware, Maryland, Pennsylvania, Virginia, West Virginia, District of Columbia), Fatima El-Abdaoui, 1650 Arch St., (3WC32), Philadelphia, PA 19103-2029; telephone: (215) 814-2129; e-mail: el-abdaoui.fatima@epa.gov.

Region IV: (Alabama, Florida, Georgia, Kentucky, Mississippi, North Carolina, South Carolina, Tennessee), Troy Pierce, 61 Forsyth St., SW., Atlanta, GA 30303-8960; telephone: (404) 562-9016; e-mail: pierce.troy@epa.gov.

Region V: (Illinois, Indiana, Michigan, Minnesota, Ohio, Wisconsin), Heather McDonald, 77 W Jackson Blvd., (DT-8J), Chicago, IL 60604-3507; telephone: (312) 886-3572; e-mail: mcdonald.heather@epa.gov.

Region VI: (Arkansas, Louisiana, New Mexico, Oklahoma, Texas), Jerry Collins, 1445 Ross Ave., Suite 1200, (6PD-P), Dallas, TX 75202-2733; telephone: (214) 665-7562; e-mail: collins.jerry@epa.gov.

Region VII: (Iowa, Kansas, Missouri, Nebraska), Brad Horchem, 901 N 5th St., (WWPDPEST), Kansas City, KS 66101; telephone: (913) 551-7137; e-mail: horchem.brad@epa.gov.

Region VIII: (Colorado, Montana, North Dakota, South Dakota, Utah, Wyoming), Peg Perreault, 999 18th St, Suite 300, (8P-P3T), Denver, CO 80202-2466; telephone: (303) 312-6286; e-mail: perreault.peg@epa.gov.

Region IX: (Arizona, California, Hawaii, Nevada, American Samoa, Guam), Paul Feder, 75 Hawthorne St., (CMD-1), San Francisco, CA 94105; telephone: (415) 947-4160; e-mail: feder.paul@epa.gov.

Region X: (Alaska, Idaho, Oregon, Washington), Sandy Halstead, 24106 North Bunn Road, Prosser, WA 99350; telephone: (509) 786-9225; e-mail: halstead.sandra@epa.gov.

List of Subjects

Environmental protection, Pesticides, Risk reduction.

Dated: March 13, 2003.
Janet L. Andersen,
Director, Biopesticides and Pollution Prevention Division, Office of Pesticide Programs.

[FR Doc. 03-6586 Filed 3-18-03; 8:45 am]

BILLING CODE 6560-50-S